DEPARTMENT OF LABOR

Occupational Safety and Health Administration

29 CFR Part 1910

[Docket No. OSH-2008-0034]

RIN No. 1218-AC08

Revising Standards Referenced in the Acetylene Standard

AGENCY: Occupational Safety and Health Administration (OSHA), Labor.

ACTION: Proposed rule; withdrawal.

SUMMARY: With this document, OSHA is withdrawing the proposed rule that accompanied its direct-final rule revising the Acetylene Standard for general industry.

DATES: As of February 4, 2010, the proposed rule published August 11, 2009 (74 FR 40450), is withdrawn.

FOR FURTHER INFORMATION CONTACT: General information and press inquiries: Contact Jennifer Ashley, Director, OSHA Office of Communications, Room N-3647, U.S. Department of Labor, 200 Constitution Avenue, NW., Washington, DC 20210; telephone: (202) 693-1999.

Technical information: Contact Ted Twardowski, Directorate of Standards and Guidance, Room N-3609, OSHA, U.S. Department of Labor, 200 Constitution Avenue, NW., Washington, DC 20210; telephone: (202) 693-2070; fax: (202) 693-1663.

Copies of this Federal Register notice: Electronic copies of this Federal Register notice are available at http://www.regulations.gov. This Federal Register notice, as well as news releases and other relevant information, are also available at OSHA's Webpage at http://www.osha.gov.

SUPPLEMENTARY INFORMATION: On August 11, 2009, OSHA published a direct-final rule to update the incorporated references in its Acetylene Standard for general industry at 29 CFR 1910.102 (74 FR 40442). OSHA also published a companion proposed rule along with the direct-final rule (74 FR 40450). In the direct-final rule, OSHA stated that it would withdraw the companion proposed rule and confirm the effective date of the direct-final rule if it received no significant adverse comments on the direct final rule by September 10, 2009. OSHA received eight comments on the direct-final rule by that date, which it determined were not significant adverse comments. OSHA subsequently published a notice announcing this determination and confirming the effective date of the direct-final rule as November 9, 2009 (74 FR 57883). Accordingly, OSHA is not proceeding with the proposed rule and is withdrawing it from the rulemaking process.

List of Subjects in 29 CFR Part 1910

Acetylene, General industry, Occupational safety and health, Safety.

Authority and Signature

David Michaels, Assistant Secretary of Labor for Occupational Safety and Health, U.S. Department of Labor, 200 Constitution Avenue, NW., Washington, DC 20210, directed the preparation of this document. OSHA is issuing this document pursuant to Sections 4, 6, and 8 of the Occupational Safety and Health Act of 1970 (29 U.S.C. 653, 655, and 657), 5 U.S.C. 553, Secretary of Labor's Order 5-2007 (72 FR 31160), and 29 CFR part 1911.

Signed at Washington, DC, on January 29, 2010.
David Michaels,
Assistant Secretary of Labor for Occupational Safety and Health.

[FR Doc. 2010-2313 Filed 2-3-10; 8:45 am]

BILLING CODE 4510-26-P